NATIONAL TRANSPORTATION SAFETY BOARD

Agenda; Sunshine Act Meeting

Time and Date: 9:30 a.m., Tuesday, September 11, 2007.

Place: NTSB Conference Center, 429 L'Enfant Plaza SW., Washington, DC 20594.

Status: The two items are open to the public.

Matter to be Considered: 1124C, Motorcycle Safety Recommendation Letters.

7833a, Railroad Accident Report—Derailment of Chicago Transit Authority Train Number 220 Between Clark/Lake and Grand/Milwaukee Stations, Chicago, Illinois, July 11, 2006.

News Media Contact: Telephone: (202) 314-6100.

Individuals requesting specific accommodations should contact Chris Bisett at (202) 314-6305 by Friday, September 7, 2007.

The public may view the meeting via alive or archived webcast by accessing a link under “News & Events” on the NTSB home page at http://www.ntsb.gov.

For More Information Contact: Vicky D'Onofrio, (202) 314-6410.

Dated: August 31, 2007.
Vicky D'Onofrio,
Federal Register Liaison Officer.

[FR Doc. 07-4352 Filed 8-31-07; 12:52 pm]

BILLING CODE 7533-01-M